DEPARTMENT OF TRANSPORTATION

Surface Transportation Board

[STB Finance Docket No. 34059]

Providence and Worcester Railroad Company—Operation Exemption—Massachusetts Bay Transportation Authority

Providence and Worcester Railroad Company (P&W) has filed a verified notice of exemption under 49 CFR 1150.31 to operate railroad trackage owned by the Massachusetts Bay Transportation Authority (MBTA), a noncarrier,¹ between milepost QVJ 0.6 and milepost QVJ 3.1, a distance of approximately 2.5 miles, near Seekonk, Bristol County, MA (line).²

¹ MBTA is an agency of the Commonwealth of Massachusetts.

² CSX Transportation, Inc.'s (CSX) discontinuance of trackage rights on the line was previously exempted by the Board in CSX Transportation, Inc.—Discontinuance of Trackage Rights Exemption—in Bristol County, MA, STB Docket No. AB-55 (Sub-No. 582X) (STB served Nov. 1, 2000). P&W indicates that CSX has not yet implemented its discontinuance and that CSX is still technically an operator of the line.

According to P&W, it cannot begin operations over the line until the at-grade crossing at Newman Avenue, which was removed by third parties in connection with a roadway improvement project, is restored. P&W notes that it has proceeded with discussions with MBTA and the Town of Seekonk and intends to press for prompt restoration of the crossing. The earliest the transaction could have been consummated was June 27, 2001, 7 days after the exemption was filed.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34059, must be filed with the Surface Transportation Board, Office of the Secretary, Case Control Unit, 1925 K Street, NW, Washington, DC 20423-0001. In addition, a copy of each pleading must be served on Mary A. Tanona, Esq., Providence and Worcester Railroad Company, 75 Hammond Street, Worcester, MA 01610.

Board decisions and notices are available on our website at www.stb.dot.gov.

Decided: June 27, 2001.
By the Board, David M. Konschnik, Director, Office of Proceedings.
Vernon A. Williams,
Secretary.

[FR Doc. 01-16694 Filed 7-2-01; 8:45 am]

BILLING CODE 4915-00-P